DEPARTMENT OF THE INTERIOR

Bureau of Indian Affairs

25 CFR Part 61

RIN 1076-AE44

Preparation of Rolls of Indians

AGENCY: Bureau of Indian Affairs, Interior.

ACTION: Proposed rule.

SUMMARY: The Bureau of Indian Affairs is proposing to amend its regulations governing the compilation of rolls of Indians in order to open the enrollment application process for the Western Shoshone Identifiable Group of Indians. The enrollment application process will give individuals an opportunity to file applications to share in the Western Shoshone judgment fund distribution authorized under the Western Shoshone Claims Distribution Act of July 7, 2004.

DATES: Comments must be received on or before July 18, 2005.

ADDRESSES: You may submit comments, identified by the number 1076-AE44, by any of the following methods:

• Federal rulemaking portal: http://www.regulations.gov. Follow the instructions for submitting comments.

• Fax: (202) 208-5113.

• Mail: Daisy West, Office of Tribal Services, Bureau of Indian Affairs, 1951 Constitution Avenue, NW., Mail Stop 320-SIB, Washington, DC 20240.

• Hand delivery: Office of Tribal Services, Bureau of Indian Affairs, 1951 Constitution Avenue, NW., Room 320-SIB, Washington, DC 20240.

You may submit comments on the information collection to the Desk Officer for the Department of the Interior at the Office of Management and Budget, by facsimile at (202) 395-6566 or you may send an e-mail to: OIRA_DOCKET@omb.eop.gov. This comment is in addition to comments on the rule.

FOR FURTHER INFORMATION CONTACT: Daisy West, Office of Tribal Services, Bureau of Indian Affairs, (202) 513-7641.

SUPPLEMENTARY INFORMATION:

Additional Notice and Public Meetings

We will take several steps to ensure that all potential applicants are informed of the reopening of the enrollment application period.

(1) We will notify all BIA Regional Directors and Agency Superintendents and require them to post notices in regional offices, agency offices, community centers on and near reservations, and in Indian Health Clinics.

(2) We will notify tribal newspapers and newspapers of general circulation in major communities in Nevada, California, Idaho, Arizona, Oregon and Utah.

(3) We will hold community meetings on or near Indian reservations, including: Duckwater, Duck Valley, Ely, Fallon, Ft. McDermitt, Te-Moak, Timbisha and Yomba.

At each of the community meeting we will:

(1) Inform potential beneficiaries of the opening of the enrollment process for this judgment fund;

(2) Inform potential beneficiaries of eligibility criteria; and

(3) Help applicants to prepare and file applications.

Application Deadline

We will not establish a firm application deadline in this rule. In order to allow adequate time for submitting and processing applications we will establish a deadline using the following three steps:

Step 1. One hundred and eighty days (180) after opening the enrollment application process, we will count all applications that we have received.

Step 2. We will note the date on which we complete processing 90 percent of the applications that we receive by the date established under Step 1.

Step 3. The application deadline will be 90 days after the date noted in Step 2.

For example, if we receive 10 applications during the first 180 days after opening the application process, the final application deadline date will be 90 days after we process 9 applications. Similarly, if we receive 10,000 applications during the first 180 days after opening the application process, the final application deadline date will be 90 days after we process 9,000 applications. After we establish the application deadline, we will notify the same regional directors, agency superintendents, and local newspapers that we notify after publishing this rule. (See the section in this preamble titled “Additional Notice and Public Meetings.”) Our notification will include application/enrollment criteria.

Regulatory Planning and Review (Executive Order 12866)

This document is not a significant rule and is not subject to review by the Office of Management and Budget under Executive Order 12866.

(1) This rule will not have an effect of $100 million or more on the economy. It will not adversely affect in a material way the economy, productivity competition, jobs, the environment, public health or safety, or State, local, or tribal governments or communities. This rule only involves individual Indians who wish to apply for a share of the Western Shoshone judgment funds.

(2) This rule will not create a serious inconsistency or otherwise interfere with an action taken or planned by another agency. This rule does not impact other agency programs.

(3) This rule does not alter the budgetary effects or entitlement, grants, user fees, or loan programs or the rights or obligations of their recipients. This rule does not impact other agency programs. The funds distributed to eligible applicants will not be considered to be income or resources for any purpose; or be used as a basis for denying or reducing financial assistance or any other benefit to which a household or Western Shoshone member would otherwise be entitled to receive under the Social Security Act, or any other Federal or federally-assisted program. (See subsection 3(c)(3) of Pub. L. 108-270).

(4) This rule does not raise novel legal or policy issues. All potential legal or policy issues were litigated in several Federal courts during the 1980s and 1990s, before the enactment of Public Law 108-270.

Regulatory Flexibility Act

The Department of the Interior certifies that this document will not have a significant economic effect on a substantial number of small entities under the Regulatory Flexibility Act (5 U.S.C. 601 et seq.). Because this rule makes technical changes that do not affect the substance of the rules there is no economic effect at all, other than to improve the utility of the rules for users.

Small Business Regulatory Enforcement Fairness Act (SBREFA)

This rule is not a major rule under 5 U.S.C. 804(2), the Small Business Regulatory Enforcement Fairness Act. This rule:

(1) Does not have an annual effect on the economy of $100 million or more. This rule does not involve small business; it only involves individuals who wish to apply to share in the judgment fund distribution.

(2) Will not cause a major increase in costs or prices for consumers, individual industries, Federal, State, or local government agencies, or geographic regions.

(3) Does not have significant adverse effects on competition, employment, investment, productivity, innovation, or the ability of U.S.-based enterprises to compete with foreign-based enterprises.

Unfunded Mandates Reform Act

This rule does not impose an unfunded mandate on State, local, or tribal governments or the private sector of more than $100 million per year. The rule does not have a significant or unique effect on State, local or tribal governments or the private sector. A statement containing the information required by the Unfunded Mandates Reform Act (1 U.S.C. 1531 et seq.) is not required. This rule does not involve small business; it only involves individuals who wish to apply to share in the judgment fund distribution.

Takings (Executive Order 12630)

In accordance with Executive Order 12630, the rule does not have significant takings implications. This rule does not affect property rights of the public. This rule does not involve a taking, it only involves individuals who wish to apply to share in the judgment fund distribution. A takings implication assessment is not required.

Federalism (Executive Order 13132)

In accordance with Executive Order 13132, this proposed rule does not have significant federalism effects. A significant assessment is not required. The proposed rule will not have substantial direct effects on a state or tribe, in the relationship between the Federal Government and a state or tribe, or on the distribution of power and responsibilities among the various levels of government.

Civil Justice Reform (Executive Order 12988)

In accordance with Executive Order 12988, the Office of the Solicitor has determined that this rule does not unduly burden the judicial system and meets the requirements of sections 3(a) and 3(b)(2) of the Order. Any enrollment appeals will be decided by the Secretary of the Interior under 25 U.S.C. 62.

Paperwork Reduction Act

This rule requires collection of information from many enrollees. As required by the Paperwork Reduction Act of 1995 (44 U.S.C. 3507(d)), the Department has submitted a copy of the application to the Office of Management and Budget (OMB) for its review.

1. Information Collection Request

We are seeking your comments on the following Information Collection Request. You may submit comments on the information collection to the Desk Officer for the Department of the Interior at the Office of Management and Budget, by facsimile at (202) 395-6566 or you may send an e-mail to: OIRA_DOCKET@omb.eop.gov. This comment is in addition to comments on the rule.

Type of review: New.

Title: Application to Share in the Western Shoshone Funds as a Lineal Descendant of the Western Shoshone Identifiable Group pursuant to the Act of July 7, 2004, Public Law 108-270.

Affected Entities: Individual Indians.

Estimated Number of Respondents: We expect to receive approximately 10,000 applications over a 2-year enrollment period—3,000 the first year and 7,000 the second year.

Abstract: Subsection 3(b) of Public Law 108-270, requires the Secretary of the Interior to prepare a Western Shoshone judgment roll consisting of all individuals who—(a) have at least ¼ degree of Western Shoshone blood; (b) are citizens of the United States; and (c) are living on July 7, 2004. Information is required to obtain a benefit, namely a judgment fund per capita payment.

Ineligible Individuals: Any individual that is certified by the Secretary to be eligible to receive a per capita payment from any other judgment fund based on an aboriginal land claim awarded by the Indian Claims Commission, the United States Claims Court, or the United States Court of Federal Claims, that was appropriated on or before July 7, 2004, will not be listed on the judgment roll.

Burden Statement: The burden of preparing and submitting an application to share in the judgment fund distribution will vary widely depending upon the applicant's age and family history. Individuals 50 years or older will probably spend an average of 1 hour per response. Those individuals 30 years and younger, and non-enrolled tribal members may require 20 hours to prepare a response, including the time for reviewing instructions, gathering and maintaining data, and completing and reviewing the form. The applicants are required to file only once during the estimated 2-year enrollment application period. We estimate that the total burden hours for the entire process is 112,000 hours for a 2-year annual average of 60,000 hours. We will not conduct or require individuals to respond to a collection of information until we obtain a valid Office of Management and Budget control number. We will print the approval number on the form.

2. Request for Comments

We need your comments to:

(a) Evaluate whether the proposed collection of information is necessary for the proper performance of the functions of the agency, including whether the information will have practical utility.

(b) Evaluate the accuracy of our estimated burden for the proposed collection of information, including the methodology and assumptions we used.

(c) Enhance the quality, utility, and clarity of the information that we want to collect.

(d) Minimize the burden of the collection of information on those who are to respond. This includes possibly using automated or electronic collection techniques or information technology.

Burden means the total time, effort, or financial resources expended by persons to generate, maintain, retain, or disclose or provide information to or for a Federal agency. This includes the time needed to review instructions; to develop, acquire, install and utilize technology and systems for the purpose of collecting, validating, and verifying information, processing and maintaining information, and disclosing and providing information, and disclosing and providing information, to search data sources, to complete and review the collection of information; and to transmit or otherwise disclose the information.

Comments submitted in response to this notice will be summarized and/or included in the request for OMB approval of this information collection. They also will become a matter of public record.

All written comments will be available for public inspection in Room 320 of the South Interior Building, 1951 Constitution Avenue, NW., Washington, DC from 9 a.m. until 3 p.m. (EST), Monday through Friday, excluding legal holidays. If you wish to have your name and address withheld from public view, you must state this prominently at the beginning of your comments. We will honor your request to the extent allowable by law. There may be instances when we will withhold comments from the public for other reasons. Comments submitted by businesses or business representatives will be made available for public review.

OMB must approve or disapprove this collection of information between 30 and 60 days after this document appears in the Federal Register. Therefore, a comment to OMB is best assured of having its full effect if OMB receives it within 30 days of publication. This does not affect the deadline for sending comments to us on the proposed regulations.

National Environmental Policy Act

This rule does not constitute a major Federal action significantly affecting the quality of the human environment. A detailed statement under the National Environmental Policy Act of 1969 is not required. This rule does not impact the environment; it only involves individuals who wish to apply to share in the judgment fund distribution.

Government-to-Government Relationship with Tribes

In accordance with the President's memorandum of April 29, 1994, “Government-to-Government Relations with Native American Tribal Governments” (59 FR 22951), Executive Order 13175, and 512 DM 2, we understand that we must relate to federally recognized Indian tribes on a government-to-government basis. We have evaluated potential effects on federally recognized Indian tribes and have determined that there are no potential effects. The judgment funds do not belong to any federally recognized tribe, nor can any tribe treat the judgment funds as a tribal resource. The judgment funds will be distributed to individual Indians of Western Shoshone descent, who may or may not be enrolled with a federally recognized tribe.

Effects on the Nation's Energy Supply (Executive Order 13211)

In accordance with Executive Order 13211, this regulation does not have a significant effect on the nation's energy supply, distribution, or use. This rule does not involve the nation's energy supply; it only involves individuals who wish to apply to share in the judgment fund distribution.

List of Subjects in 25 CFR Part 61

Indians, Indians—claims.

Dated: April 8, 2005.
Michael D. Olsen,
Acting Principal Deputy Assistant Secretary—Indian Affairs.

For the reasons set out in the preamble, part 61 of chapter 1 of title 25 Code of Federal Regulations is proposed to be amended as set forth below.

PART 61—PREPARATION OF ROLLS OF INDIANS

1. The authority citation for 25 CFR part 61 is revised to read as follows:

Authority: 5 U.S.C. 301; 25 U.S.C. 2 and 9, 1300d-3(b), 1401 et seq., and Pub. L. 108-270.

2. Section 61.4 is amended by adding a new paragraph (k) to read as follows:

§ 61.4 Qualifications for enrollment and the deadline for filing application forms.

* * * * *

(k) Western Shoshone Identifiable Group of Indians. (1) Persons meeting the criteria in this paragraph are entitled to enroll under the Act of July 7, 2004, Public Law 108-270, to share in the distribution of judgment funds awarded by the Indian Claims Commission to the Western Shoshone Identifiable Group of Indians in Docket No. 326-K. To be eligible a person must:

(i) Have at least ¼ degree of Western Shoshone blood;

(ii) Be living on July 7, 2004;

(iii) Be a citizen of the United States; and

(iv) Not be certified by the Secretary to be eligible to receive a per capita payment from any other judgment fund based on an aboriginal land claim awarded by the Indian Claims Commission, the United States Claims Court, or the United States Court of Federal Claims, that was appropriated on or before July 7, 2004.

(2) Indian census rolls prepared by the Agents or Superintendents at Carson or Western Shoshone Agencies between the years of 1885 and 1940, and other documents acceptable to the Secretary will be used in establishing proof of eligibility of an individual to:

(i) Be listed on the judgment roll; and

(ii) Receive a per capita payment under the Western Shoshone Claims Distribution Act.

(3) Application forms for enrollment must be mailed to Tribal Government Services, BIA—Western Shoshone, Post Office Box 4126, Phoenix, Arizona 85030.

(4) The application period will remain open until further notice.

* * * * *

[FR Doc. 05-9941 Filed 5-18-05; 8:45 am]

BILLING CODE 4310-4J-P